DEPARTMENT OF TRANSPORTATION

Research and Special Programs Administration

Office of Hazardous Materials Safety

Notice of Applications for Modification of Exemption

AGENCY: Research and Special Programs Administration, DOT.

ACTION: List of applications for modification of exemptions.

SUMMARY: In accordance with the procedures governing the application for, and the processing of, exemption from the Department of Transportation's Hazardous Materials Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modifications of exemptions (e.g., to provide for additional hazardous materials, packaging design changes, additional mode of transportation, etc.) are described in footnotes to the application number. Application numbers with the suffix “M” denote a modification request. These applications have been separated from the new applications for exemptions to facilitate processing.

DATES: Comments must be received on or before (15 days after publication).

ADDRESS COMMENTS TO: Records Center, Research and Special Programs, Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street SW., Washington, DC or at http://dms.dot.gov.

This notice of receipt of applications for modification of exemptions is published in accordance with Part 107 of the Federal Hazardous Materials Transportation Law (49 U.S.C. 5117(b); 49 CFR 1.53(b)).

Issued in Washington, DC, on September 13, 2002.
R. Ryan Posten,
Exemptions Program Officer, Office of Hazardous Materials, Exemptions and Approvals.

Application | Docket No. | Applicant | Modification of exemption
10798-M |  | Arch Chemicals, Inc., Norwalk, CT (See Footnote 1) | 10798
10850-M |  | Ashland, Inc., Columbus, OH (See Footnote 2) | 10850
10867-M |  | Pacific Scientific, Duarte, CA (See Footnote 3) | 10867
10880-M |  | American West Explosives, Inc., Springfield, MO (See Footnote 4) | 10880
11494-M |  | Atlantic Research Corp (Automotive Products Group), Knoxville, TN (See Footnote 5) | 11494
12122-M | RSPA-98-4313 | Atlantic Research Corp (Automotive Products Group), Knoxville, TN (See Footnote 6) | 12122
12178-M | RSPA-99-5050 | OraSure Technologies, Inc., Bethlehem, PA (See Footnote 7) | 12178
12997-M | RSPA-02-12214 | Albemarle Corporation, Baton Rouge, LA (See Footnote 8) | 12997
103015-M | RSPA-02-12926 | BOC Gases, Murray Hill, NJ (See Footnote 9) | 13015
¹ To modify the exemption to authorize the transportation of Division 5.1 and additional Class 8 and Division 6.1 materials in DOT Specification tank cars.
² To modify the exemption to authorize the transportation of additional Class 3 materials in DOT Specification 4BW cylinders.
³ To modify the exemption to authorize a change to the mechanical properties of the material by allowing for stress relief and hydrotest frequency for 3 to 5 years for the transportation of Division 2.2 materials in non-DOT specification cylinders.
⁴ To modify the exemption to authorize transportation of Division 1.1D, 1.4D, 1.4B, 1.4S and additional 1.5D materials in reuseable flexible intermediate bulk containers.
⁵ To modify the exemption to authorize the elimination of the flattening test requirement on non-DOT specification cylinders transporting Division 2.2 materials.
⁶ To modify the exemption to authorize the elimination of the flattening test requirement on non-DOT specification cylinders transporting Division 2.2 materials.
⁷ To modify the exemption to authorize expanding the distribution/sale region for export of the DOT Specification 2Q container containing certain Division 2.1 materials.
⁸ To modify the exemption to authorize the additional of a Class 8 Packing Group II material transported in vented intermediate bulk containers.
⁹ To modify the exemption to authorize label collars configured with cut-out windows and implementation of quality assurance procedures on cylinders containing Division 2.1 and 2.2 materials.

[FR Doc. 02-23838 Filed 9-18-02; 8:45 am]

BILLING CODE 4910-60-M